DEPARTMENT OF HEALTH AND HUMAN SERVICES

National Institutes of Health

Center for Scientific Review; Amended Notice of Meeting

Notice is hereby given of a change in the meeting of the Center for Scientific Review Special Emphasis Panel, March 28, 2005, 4 p.m. to March 28, 2005, 5 p.m., National Institutes of Health, 6701 Rockledge Drive, Bethesda, MD, 20892 which was published in the Federal Register on March 1, 2005, 70 FR 9959-9961.

The meeting will be held April 2005, from 12 p.m. (noon) to 1 p.m. The meeting location remains the same. The meeting is closed to the public.

Dated: March 31, 2005.
LeVerne Y. Stringfield,
Director, Office of Federal Advisory Committee Policy.

[FR Doc. 05-7006 Filed 4-7-05; 8:45 am]

BILLING CODE 4140-01-M